FEDERAL ELECTION COMMISSION

[NOTICE 2020-04]

Filing Dates for the New York Special Election in the 27th Congressional District

AGENCY: Federal Election Commission.

ACTION: Notice of filing dates for special election.

SUMMARY: New York has rescheduled the date of the Special General Election to fill the U.S. House of Representatives seat in the 27th Congressional District vacated by Representative Chris Collins. The Special General Election, formerly set for April 28, 2020, will now be held on June 23, 2020.

Committees required to file reports in connection with the Special General Election on June 23, 2020, shall file a 12-day Pre-General Report, and a 30-day Post-General Report.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the New York Special General Election shall file a 12-day Pre-General Report on June 11, 2020, and a 30-day Post-General Report on July 23, 2020. (See chart below for the closing date for each report.)

Unauthorized Committees (PACs and Party Committees)

Political committees not filing monthly in 2020 are subject to special election reporting if they make previously undisclosed contributions or expenditures in connection with the New York Special General Election by the close of books for the applicable report(s). (See chart below for the closing date for each report.)

Committees filing monthly that make contributions or expenditures in connection with the New York Special General Election will continue to file according to the monthly reporting schedule.

Additional disclosure information in connection with the New York Special Election may be found on the FEC website at https://www.fec.gov/help-candidates-and-committees/dates-and-deadlines/.

Disclosure of Lobbyist Bundling Activity

Principal campaign committees, party committees and leadership PACs that are otherwise required to file reports in connection with the special election must simultaneously file FEC Form 3L if they receive two or more bundled contributions from lobbyists/registrants or lobbyist/registrant PACs that aggregate in excess of $19,000 during the special election reporting period. (See chart below for closing date of each period.) 11 CFR 104.22(a)(5)(v), (b), 110.17(e)(2), (f).

Calendar of Reporting Dates for New York Special Election
Report | Close of Books ¹ | Reg./cert. & overnight mailing deadline | Filing deadline
Committees Involved in the Special General (06/23/2020) Must File:
Pre-General | 06/03/2020 | 06/08/2020 | 06/11/2020
July Quarterly | —WAIVED —
Post-General | 07/13/2020 | 07/23/2020 | 07/23/2020
October Quarterly | 09/30/2020 | 10/15/2020 | 10/15/2020
¹ The reporting period always begins the day after the closing date of the last report filed. If the committee is new and has not previously filed a report, the first report must cover all activity that occurred before the committee registered as a political committee up through the close of books for the first report due.

Dated: April 2, 2020.
On behalf of the Commission.
Caroline C. Hunter,
Chair, Federal Election Commission.

[FR Doc. 2020-07447 Filed 4-8-20; 8:45 am]

BILLING CODE 6715-01-P